DEPARTMENT OF THE INTERIOR

Fish and Wildlife Service

Chickasaw, Hatchie, Lower Hatchie, Reelfoot, and Lake Isom National Wildlife Refuges

AGENCY: Fish and Wildlife Service, Interior.

ACTION: Notice of availability of the Final Comprehensive Conservation Plans and Findings of No Significant Impact for Chickasaw National Wildlife Refuge in Lauderdale County, Tennessee; Hatchie National Wildlife Refuge in Haywood County, Tennessee; Lower Hatchie Nainotal Wildlife Refuge in Lauderdale and Tipton Counties, Tennessee; and Reelfoot and Lake Isom National Wildlife Refuges in Obion and Lake Counties, Tennessee, and Fulton County, Kentucky.

SUMMARY: The Fish and Wildlife Service announces that Final Comprehensive Conservation Plans and Findings of No Significant Impact for the above referenced refuges are available for distribution. The plans were prepared pursuant to the National Wildlife Refuge System Improvement Act of 1997, and in accordance with the National Environmental Policy Act of 1969, and describe how the refuges will be managed over the next 15 years.

ADDRESSES: Copies of these plans may be obtained by writing to: Randy Cook, West Tennessee Refuges, 301 N. Church, Room 201, Dyersburg, Tennessee 38024; Telephone 731/287-0650. The plans may also be accessed and downloaded from the Service's Internet Web site http://southeast.fws.gov/planning/.

SUPPLEMENTARY INFORMATION: The availability of the draft comprehensive conservation plans and environmental assessments for a 45-day review period was announced in the Federal Register on January 4, 2006 (71 FR 353). The Service evaluated four alternatives for managing the refuges and selected Alternative D as the preferred alternative. This alternative was developed based on public input and the best professional judgment of the planning team. Under Alternative D, refuge lands will be more intensely managed than at present to provide high-quality habitat for wildlife, which will work toward fulfilling the habitat objectives outlined in the Mississippi Alluvial Valley Migratory Bird Initiative, and will include significant benefits for waterfowl, shorebirds, and neotropical migratory birds. This alternative will significantly benefit wetland-dependent migratory bird species by increasing and enhancing breeding, wintering, and migration habitats. This alternative contributes directly to the objectives of the Lower Mississippi Joint Venture of the North American Waterfowl Management Plan, the partners in Flight—Mississippi Alluvial Valley Habitat Conservation Plan, the United States Shorebird Conservation Plan, West Tennessee Wildlife Resources Conservation Plan, and the North American Woodcock Plan. It provides integrated migratory bird management objectives in a landscape-level, biologically driven framework, which includes creating and maintaining additional moist-soil units and restoring bottomland hardwood forest habitats.

Fisheries management will be emphasized and, where appropriate, restored for native diversity within the floodplain. Refuge habitats will be managed and restored for natural diversity in support of national and regional plans. Forest management will address the need to restore and enhance the red oak component for migratory waterfowl and develop vertical structure to provide habitat for a diversity of species, particularly priority migratory birds. Any future reforestation efforts will incorporate greater native tree species diversity.

This alternative will encourage more public recreational and educational uses, where feasible, while intensifying current habitat management. Hunting and fishing will continue with greater emphasis on increasing opportunities and enhancing the quality of the experience, including those for youth and disabled hunters/anglers. Education and interpretation will be promoted while providing programs and partnerships with local schools. Wildlife observation and photography opportunities will be expanded. Information guides and signage that highlight management programs, as well as unique wildlife habitats, will also be developed. Efforts will be undertaken to improve road maintenance in order to provide better visitor access.

The Service intends to construct a visitor center and headquarters office on Reelfoot, Chicksaw, and Lower Hatchie Refuges, with space for interpretation, environmental education, and staff.

Research studies will continue to be fostered and partnerships developed with other agencies and universities, with the refuges providing needed resources and study sites. Research will also provide benefits to conservation efforts throughout the Lower Mississippi River Valley to conserve, enhance, restore, and manage bottomland hardwood habitat. Inventorying and monitoring of birds, freshwater mussels, reptiles, and amphibians will be continued and expanded in order to assess population trends, correlate with environmental pressures, and provide baseline data to be used in development of appropriate management strategies. Providing additional staff (e.g., wildlife biologist, outdoor recreation planner, maintenance workers, and an additional full-time law enforcement officer) will enable the Service to fully develop and manage fish and wildlife resources and habitats, provide opportunities and facilities for wildlife observation and photography, provide environmental educational programs that promote a greater understanding of natural resources, and protect natural and cultural resources.

Under this alternative, the refuges will continue to acquire lands within the present acquisition boundaries for the use of compatible wildlife-dependent public recreation and environmental education opportunities. Tracts that provide better-quality habitat and connectivity to existing refuge lands will receive higher priority for acquisition. The refuges will also use other important acquisition tools, including partnerships with conservation organizations, conservation easements with adjacent landowners, and leases/cooperative agreements.

Public comments were requested, considered, and incorporated throughout the planning process in numerous ways. Pubic outreach included open houses, public meetings, technical workgroups, planning update mailings, and Federal Register notices. During the draft comprehensive conservation plan/environmental assessment comment period for each refuge, the Service received several comments, which were incorporated, when appropriate, and responded to in the final comprehensive conservation plan.

Authority: This notice is published under the authority of the National Wildlife Refuge System Improvement Act of 1997, Public Law 105-57.

Dated: April 4, 2006.
Cynthia K. Dohner,
Acting Regional Director.

[FR Doc. 06-5534 Filed 6-19-06; 8:45 am]

BILLING CODE 4310-55-M